DEPARTMENT OF TRANSPORTATION

National Highway Traffic Safety Administration

[Docket No. NHTSA-2017-0081]

Traffic Records Program Assessment Advisory; Public Comment

AGENCY: National Highway Traffic Safety Administration (NHTSA), U.S. Department of Transportation (DOT).

ACTION: Request for public comment.

SUMMARY: The National Highway Traffic Safety Administration (NHTSA) is in the process of reviewing the Traffic Records Program Assessment Advisory, DOT HS 811 644, (Advisory) and requests comments to determine if updates or improvements are appropriate. States need timely, accurate, complete, and uniform traffic records to identify and prioritize traffic safety issues and to choose appropriate safety countermeasures and evaluate their effectiveness. The Advisory provides information on the contents, capabilities, and data quality attributes of an effective traffic records system, and includes assessment questions that qualified independent assessors use to evaluate the capabilities of a State's traffic records systems. Based on the input received in response to this notice, and NHTSA's experience in applying the previous Advisory to conduct assessments in the past, we anticipate issuing a revised Advisory by June 2018.

DATES: Written comments may be submitted to this agency and must be received no later than December 26, 2017.

ADDRESSES: You may submit comments identified by DOT Docket ID number NHTSA-2017-0081 by any of the following methods:

Electronic Submissions: Go to http://www.regulations.gov. Follow the online instructions for submitting comments.

Fax: 202-366-2746.

Mail: Docket Management Facility, M-30 U.S. Department of Transportation, West Building, Ground floor, Room W12-140, 1200 New Jersey Ave. SE., Washington, DC 20590.

Hand Delivery or Courier: Docket Management Facility, M-30, U.S. Department of Transportation, West Building, Ground floor, Room W12-140, 1200 New Jersey Ave. SE., Washington, DC 20590, between 9 a.m. and 5 p.m. Eastern time, Monday through Friday, except Federal holidays.

Regardless of how you submit your comments, you should identify the Docket number of this notice.

Instructions: For detailed instructions on submitting comments and additional information, see http://www.regulations.gov. Note that all comments received will be posted without change to http://www.regulations.gov, including any personal information provided. Please read the “Privacy Act” heading below.

Privacy Act: Anyone is able to search the electronic form of all contents received into any of our dockets by the name of the individual submitting the comment (or signing the comment, if submitted on behalf of an association, business, labor union, etc.). You may review DOT's complete Privacy Statement in the Federal Register published on April 11, 2000 (65 FR 19477-78) or you may visit http://docketsInfo.dot.gov.

Confidential Information: If you wish to submit any information under a claim of confidentiality, you should submit three copies of your complete submission, including the information you claim to be confidential business information, to the Chief Counsel, NHTSA, 1200 New Jersey Avenue SE., Washington, DC 20590-0001. In addition, you should submit two copies, from which you have deleted the claimed confidential business information, to Docket Management at the address given above under

When you send a comment containing information claimed to be confidential business information, you should include a cover letter setting forth the information specified in our confidential business information regulation. (49 CFR part 512) Docket: For access to the docket to read background documents or comments received, go to http://www.regulations.gov or the street address listed above. Follow the online instructions for accessing the dockets.

Docket: For access to the docket to read background documents or comments received, go to http://www.regulations.gov at any time or to West Building Ground Floor, Room W12-140, 1200 New Jersey Avenue SE., Washington, DC, between 9 a.m. and 5 p.m., Eastern Time, Monday through Friday, except Federal holidays.

FOR FURTHER INFORMATION CONTACT: For programmatic issues: John Siegler, Office of Traffic Records and Analysis, NVS-423, National Highway Traffic Safety Administration, 1200 New Jersey Avenue SE., Washington, DC 20590. Telephone (202) 366-1268. For legal issues: Megan Brown, Office of Chief Counsel, NCC-113, National Highway Traffic Safety Administration, 1200 New Jersey Avenue SE., Washington, DC 20590. Telephone (202) 366-1834.

SUPPLEMENTARY INFORMATION: States need timely, accurate, complete, and uniform traffic records data to identify and prioritize traffic safety issues, and choose appropriate safety countermeasures and evaluate their effectiveness. The National Highway Traffic Safety Administration published the Traffic Records Program Assessment Advisory (DOT HS 811 644) in 2012 to provide guidance on the peer review of States' crash, driver, vehicle, roadway, citation and adjudication, and injury surveillance systems.

The Advisory describes the capabilities of an ideal traffic records system and includes a set of questions, which are the basis for an in-depth review of State highway safety data and State traffic records systems. Specifically, these questions examine how the State Highway Safety Office (SHSO), State Traffic Records Coordinating Committee (TRCC), and the representative TRCC agencies plan, collect, manage, and integrate information from the crash, driver, vehicle, roadway, citation and adjudication, and injury surveillance data systems.

In order to qualify for a State Traffic Safety Information System Improvements grant under 23 U.S.C. 405(c), a State must certify that “an assessment of the State's highway safety data and traffic records system was conducted or updated during the preceding 5 years.” ¹ The 2012 Advisory was created in response to a GAO recommendation that “NHTSA take steps to ensure state traffic records assessments are complete and consistent to provide an in-depth evaluation of all state traffic safety data systems across all performance measures”.²

¹ 23 U.S.C. 405(c)(3)(E).

² U.S. Gov't Accountability Office, GAO-10-454, Traffic Safety Data: State Data System Quality Varies and Limited Resources and Coordination Can Inhibit Further Progress 41 (2010), available at http://www.gao.gov/products/GAO-0-454.

The Advisory is divided into nine topical areas: Traffic records coordinating committee, strategic planning for traffic records systems, crash data system, vehicle data system, driver data system, roadway data system, citation and adjudication systems, injury surveillance systems, and data use and integration. Each of these modules is further subdivided into submodules: Description and contents, applicable guidelines, data dictionaries, procedures and process flows, interface with other traffic records components, and data quality and control. Each assessment question is supplemented by “suggested evidence” and linked to the associated narrative description of the ideal traffic records system.

Between 2012 and 2017, NHTSA conducted 55 traffic records assessments where independent subject matter expert assessors evaluated the response to each question and rated State responses as either (1) meeting the description of the ideal traffic records system, (2) partially meeting the description, or (3) not meeting the description. These assessments identified the strengths and opportunities of each component of the State's traffic records systems and provided States with recommendations to improve their traffic records programs.

During the first five-year assessment cycle (2012-2017), NHTSA received feedback on the assessment process from State coordinators and respondents as well as the assessment facilitators and assessors. NHTSA intends to consider this feedback in addition to comments received on this notice to update the Advisory. Specifically, NHTSA will revise as appropriate the questions and evidence for the nine topical areas. Based on the feedback received during the first assessment cycle, anticipated changes may include updates to the ideal traffic records system description, expansion of suggested evidence notes, alteration and/or elimination of questions—particularly regarding performance measures—and a restructuring of the Injury Surveillance System section.

NHTSA is seeking comment on the description of the ideal traffic records system and associated assessment questions in the Advisory to provide greater clarity and ease for both State respondents and assessment teams. In undertaking this update to the Advisory, NHTSA seeks to minimize the level of effort required by States while still ensuring a robust evaluation of State traffic safety data systems that States can use to inform improvements to traffic safety data systems. The most helpful comments will suggest potential procedural changes that will streamline the process or will provide feedback on how to improve a specific question, its suggested evidence, and/or the associated text found in the module introduction. The full text of the Traffic Records Program Assessment Advisory, DOT HS 811 644, is available at http://www-nrd.nhtsa.dot.gov/Pubs/811644.pdf. NHTSA will consider all comments received as part of its revision of the Advisory. Comments will be addressed in a subsequent Federal Register notice that announces the final version of the Advisory.

Authority: 23 U.S.C. Section 405(c)(3)(E).

Issued in Washington, DC.
Terry T. Shelton,
Associate Administrator, National Center for Statistics and Analysis.

[FR Doc. 2017-23124 Filed 10-24-17; 8:45 am]

BILLING CODE 4910-59-P